SECURITIES AND EXCHANGE COMMISSION

Sunshine Act Meetings

FEDERAL REGISTER CITATION OF PREVIOUS ANNOUNCEMENT: 84 FR 19979, 7 May 2019.

PREVIOUSLY ANNOUNCED TIME AND DATE OF THE MEETING: Thursday, May 9, 2019 at 9:00 a.m.

CHANGES IN THE MEETING: The following item will not be considered during the Open Meeting on Thursday, May 9, 2019:

• Whether to propose certain rule amendments and interpretive guidance regarding the cross-border application of certain security-based swap requirements under the Securities Exchange Act of 1934 that were added by Title VII of the Dodd-Frank Wall Street Reform and Consumer Protection Act.

CONTACT PERSON FOR MORE INFORMATION: For further information and to ascertain what, if any, matters have been added, deleted or postponed, please contact the Office of the Secretary at (202) 551-5400.

Dated: May 8, 2019.
Vanessa A. Countryman,
Acting Secretary.

[FR Doc. 2019-09894 Filed 5-9-19; 11:15 am]

BILLING CODE 8011-01-P